DEPARTMENT OF COMMERCE

Foreign-Trade Zones Board (B-17-2019)

Foreign-Trade Zone (FTZ) 203—Moses Lake, Washington; Notification of Proposed Production Activity; Framatome, Inc. (Fuel Rod Subassemblies); Richland, Washington

Framatome, Inc. (Framatome) submitted a notification of proposed production activity to the FTZ Board for its facility in Richland, Washington. The notification conforming to the requirements of the regulations of the FTZ Board (15 CFR 400.22) was received on March 6, 2019.

Framatome (approved as AREVA, Inc.) already has authority to produce fuel rod assemblies within Site 4 of FTZ 203. The current request would add a finished product and a foreign-status material/component to the scope of authority. Pursuant to 15 CFR 400.14(b), additional FTZ authority would be limited to the specific foreign-status material/component and specific finished product described in the submitted notification (as described below) and subsequently authorized by the FTZ Board.

Production under FTZ procedures could exempt Framatome from customs duty payments on the foreign-status materials/components used in export production. On its domestic sales, for the foreign-status materials/components noted below and in the existing scope of authority, Framatome would be able to choose the duty rate during customs entry procedures that applies to fuel rod subassemblies (duty rate 3.3%). Framatome would be able to avoid duty on foreign-status components which become scrap/waste. Customs duties also could possibly be deferred or reduced on foreign-status production equipment.

The material/component sourced from abroad is stainless steel billets (duty-free). The request indicates that the stainless steel billets are subject to special duties under Section 232 of the Trade Expansion Act of 1962 (Section 232), depending on the country of origin. The applicable Section 232 decisions require subject merchandise to be admitted to FTZs in privileged foreign status (19 CFR 146.41).

Public comment is invited from interested parties. Submissions shall be addressed to the Board's Executive Secretary at the address below. The closing period for their receipt is May 6, 2019.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Diane Finver at Diane.Finver@trade.gov or (202) 482-1367.

Dated: March 21, 2019.
Andrew McGilvray,
Executive Secretary.

[FR Doc. 2019-05868 Filed 3-26-19; 8:45 am]

BILLING CODE 3510-DS-P